DEPARTMENT OF HOUSING AND URBAN DEVELOPMENT

[Docket No. FR-7083-N-02]

60-Day Notice of Proposed Information Collection; Affirmative Fair Housing Marketing Plan—HUD 935.2A, HUD 935.2B, and HUD 935.2C; OMB Control Number: 2529-0013

AGENCY: Office of the Assistant Secretary for Fair Housing and Equal Opportunity, HUD.

ACTION: Notice.

SUMMARY: This notice solicits public comment for a period of 60 days, consistent with the Paperwork Reduction Act of 1995 (PRA), on the Affirmative Fair Housing Marketing Plan (AFHMP) forms. The AFHMP forms collect information on the advertising and outreach activities of owners/developers of HUD Multifamily, Single Family, and Condominium/Cooperative Housing projects to attract applicants/buyers that are least likely to apply due to their race, color, national origin, religion, sex (including sexual orientation and gender identity), disability, or familial status. The purpose of this notice is to allow for 60 days of public comment.

DATES: Comment Due Date: August 26, 2024.

ADDRESSES: Interested persons are invited to submit comments regarding this notice to Colette Pollard, Reports Management Officer, REE, Department of Housing and Urban Development, 451 7th Street SW, Room 8120, Washington, DC 20410. Communications must refer to the above docket number and title. There are two methods for submitting public comments.

1. Submission of Comments by Mail. Comments may be submitted by mail to Colette Pollard, REE, Department of Housing and Urban Development, 451 7th Street SW, Room 8120, Washington, DC 20410;

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the two methods specified above. Again, all submissions must refer to the docket number and title of the notice. Facsimile (FAX) comments are not acceptable.

FOR FURTHER INFORMATION CONTACT: Jacy Gaige, Acting Director, Office of Enforcement, Office of Fair Housing and Equal Opportunity, Department of Housing and Urban Development, 451 7th Street SW, Room 7272, Washington, DC 20410; telephone (202) 402-1481 (This is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: This notice informs the public that HUD is seeking approval from OMB for the information collection described in Section A.

A. Overview of Information Collection

Title of Information Collection: Affirmative Fair Housing Marketing Plan—HUD 935.2A, HUD 935.2B, and HUD 935.2C.

OMB Approval Number: 2529-0013.

Type of Request: Revision of a currently approved collection.

Form Number: HUD 935.2A, HUD 935.2B, HUD 935.2C.

Description of the need for the information and proposed use:

HUD is requesting that the OMB approve the revision of forms: HUD-935.2A Affirmative Fair Housing Marketing Plan—Multifamily Housing, HUD-935.2B Affirmative Fair Housing Marketing Plan—Single Family Housing, and HUD-935.2C Affirmative Fair Housing Marketing Plan—Condominiums or Cooperatives. These forms assist HUD in fulfilling its duty under the Fair Housing Act to administer its programs and activities relating to housing and urban development in a manner that affirmatively furthers fair housing, by promoting a condition in which individuals of similar income levels in the same housing market area have available a like range of housing choices, regardless of race, color, national origin, religion, sex (including sexual orientation and gender identity), disability, or familial status. These forms assist HUD grantees and insured housing with their compliance with the Fair Housing Act and other civil rights requirements. This collection also promotes compliance with Executive Order 11063, which requires Federal agencies to take all necessary and appropriate action to prevent discrimination in federally insured and subsidized housing. Under the Affirmative Fair Housing Marketing Regulations (24 CFR part 200, subpart M), an AFHMP must be submitted by all applicants for participation in Federal Housing Administration (FHA) subsidized and unsubsidized housing programs that involve the development or rehabilitation of the following types of housing: (1) multifamily projects or manufactured home parks of five or more lots, units, or spaces; (2) a single family property, where the property is located in a subdivision and the builder or developer intends to sell five or more properties in the subdivision, and a lender is making an initial application for mortgage insurance; or (3) dwelling units, when the applicant's participation in FHA housing programs had exceeded or would thereby exceed the development of five or more of such dwelling units during the year preceding the application (not counting the development of single family dwelling units for occupancy by a mortgagor on property owned by the mortgagor and in which the applicant had no interest prior to entering into the contract for construction or rehabilitation). The regulations require applicants to submit the AFHMP on a form prescribed by the Department (i.e., HUD-935A; HUD-935B and HUD 935-C). If this information was not collected, it would prevent HUD from ensuring compliance with affirmative fair housing marketing requirements.

HUD is revising the HUD-935.2A to clarify the instructions involving marketing activities and reduce the need to provide information that has already been reported to HUD. The revision also substantially reduces the burden hours of completing the form using Microsoft Excel to automate the retrieval of project demographics and geocoded Census data once users enter an existing nine-digit Property ID.

Respondents: Applicants for FHA subsidized and unsubsidized housing programs.

Estimated Number of Respondents: 5,703 For the HUD 935.2A: On an annual basis, there are approximately 303 respondents that submit new plans and 1,080 respondents that review their existing plans and submit updated plans. There are 4,320 respondents who will review their AFHMP and determine that it does not need to be submitted for HUD approval.

For HUD 935.2.B & C: On an annual basis, there are approximately 30 respondents that submit new plans.

Estimated Number of Responses: 5,733.

Frequency of Response: 1 per annum.

Average Hours per Response: The average hours per response is 2.7 hours. (For HUD-935.2A, the hours per response are: 4 hours (new plans) and 2 hours (to review and update plans. Census data needed for updates are now automated) and 2 hours (review only, i.e., those who review and determine that an update is not needed). For HUD-935.2B & C, the hours per response is 3 hours (average hours between those that will certify that they do not need to complete the form and those that will complete the form).

Total Estimated Burden: 12,102 hours.

Information collection | Number of respondents | Frequency of response | Responses per annum | Burden hour per response | Annual burden hours | Hourly cost per response | Annual cost
HUD-935.2A (MFH) | 5,703 | 1 | 5,703 | New 4 × 303 Review & Update 2 × 1,080 Review 2 × 4,320 | New 1,212 Review & Update 2, 160 Review 8,640 | Respondents $40/hr (professional work) $18/hr (clerical work) $1.35 per report mailing | Respondents New = ($40 × 4 × 303) + ($18 × 2 × 303) = $59,388. Updates = ($40 × 2 × 1,080) + ($18 × 2 × $1,080) = $125,280.
|  |  |  |  |  |  | Reviews = ($40 × 2 × 4,320) =$345,600. Mailing Costs = $1.35 × 100 = $135. Annual Cost = $59,388 +$125,280 + $345,600 + $135 = $530,403.
|  |  |  |  |  | Government $40.45/hr * (professional work) $18.40/hr ** (clerical work) | Government New = ($40.45 × 3 × 303) + ($18.40 × 0.5 × 303) = $39,556.65. Reviews & Updates = ($40.45 × 3 × 1,080) + ($18.40 × 0.5 × 1,080) = $140,994. Annual Cost = $39,556.65+ $140,994 = $180,550.65.
HUD-935.2B (SFH) & C (Condos and Co-Ops) | 30 | 1 | 30 | 3 | 90 | Respondents $40/hr (professional work) $18/hr (clerical work) $1.35 per report mailing | Respondents ($40 × 3 × 30) + ($18 × 2 × 30) = $4,680. $1.35 × 0 = $0. Annual Cost = $4,680 + $0 = $4,680.
|  |  |  |  |  | Government $40.42/hr (professional work) $18.40/hr (clerical work) | Government Annual Cost = ($40.42 × 3 × 30) + ($18.40 × 0.5 × 30) = $3,918.8.
Total | 5,733 | 1 each | 5,733 | Avg. of 3.5 | 12,102 | Avg. of $17.84 | Respondents: $535,083. Government: $184,469.49.
* Base rate for GS 12 Step 5 ($40.42/hr) based on the salary information available on OPM.gov.
** Base rate for GS 5 step 5 ($18.40/hr) based on the salary information available on OPM.gov.

Solicitation of Public Comment

In accordance with 5 CFR 1320.8(d)(1), HUD is specifically soliciting comment from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comments in response to these questions.

Charles McNally,
Director of Program Standards and Compliance, Office of Fair Housing and Equal Opportunity.

[FR Doc. 2024-13987 Filed 6-25-24; 8:45 am]

BILLING CODE 4210-67-P